GENERAL SERVICES ADMINISTRATION

[Notice-MRB-2022-02; Docket No. 2022-0002; Sequence No. 6]

Notice of Establishment of a Federal Advisory Committee

AGENCY: Office of Government-wide Policy (OGP), General Services Administration (GSA).

ACTION: Notice.

SUMMARY: The U.S. General Services Administration (GSA) is announcing the establishment of the GSA Acquisition Policy Federal Advisory Committee (hereinafter “the Committee” or “the GAP FAC”) in accordance with the provisions of the Federal Advisory Committee Act (FACA).

DATES: June 21, 2022.

FOR FURTHER INFORMATION CONTACT: Boris Arratia, OGP, 703-795-0816, or Stephanie Hardison, OGP, 202-258-6823, or email: gapfac@gsa.gov.

SUPPLEMENTARY INFORMATION: The Administrator of GSA established the GSA Acquisition Policy Federal Advisory Committee (GAP FAC) as a discretionary advisory committee under agency authority in accordance with the provisions of FACA (5 U.S.C. App 2). GSA has determined that the establishment of GAP FAC is necessary and in the public interest.

As America's buyer, GSA is uniquely positioned to enable a modern, accessible, and streamlined acquisition ecosystem and a robust marketplace connecting buyers to the suppliers and businesses that meet their mission needs. The GAP FAC will assist GSA in this endeavor through expert advice on a broad range of innovative solutions to acquisition policy, workforce and industry partnership challenges.

The GAP FAC will serve as an advisory body to GSA's Administrator on how GSA can use its acquisition tools and authorities to target the highest priority Federal acquisition challenges. The GAP FAC will advise GSA's Administrator on emerging acquisition issues, challenges, and opportunities to support its role as America's buyer. The initial focus for the GAP FAC will be on driving regulatory, policy, and process changes required to embed climate and sustainability considerations in Federal acquisition. This includes examining and recommending steps GSA can take to support its workforce and industry partners in ensuring climate and sustainability issues are fully considered in the acquisition process. In accordance with FACA, the charter for the Committee will be filed with the appropriate entities no earlier than 15 calendar days following the date of publication of this notice.

Krystal Brumfield,
Associate Administrator, Office of Government-wide Policy, General Services Administration.

[FR Doc. 2022-13223 Filed 6-17-22; 8:45 am]

BILLING CODE 6820-61-P